DEPARTMENT OF ENERGY

Federal Energy Regulatory Commission

[Project No. 10674-015]

NewPage Wisconsin System Inc., Kaukauna Utilities; Notice of Application for Transfer of License and Soliciting Comments and Motions To Intervene

January 29, 2010.

On January 25, 2010, NewPage Wisconsin System Inc. (transferor) and Kaukauna Utilities (transferee) filed an application for transfer of license of the Kimberly Project No. 10674 located on the Fox River in Outagamie County, Wisconsin.

The transferor and transferee seek Commission approval to transfer the license for the Kimberly Project from the transferor to the transferee.

Applicant Contacts: For transferor: Ronald O. Guay, NewPage Wisconsin System Inc., 35 Hartford Street, Rumford, ME 04276, (937) 369-2932, and Amy S. Koch, Patton Boggs LLP, 2550 M Street, NW., Washington, DC 20037, (202) 457-5618. For transferee: Mike Pedersen, Kaukauna Utilities, 777 Island Street, Kaukauna, WI 54130, (920) 766-5721, and Nancy J. Skancke, Law Offices of GKRSE, 1500 K St., NW. Suite 330, Washington, DC 20005, (202) 408-5400.

FERC Contact: Steven Sachs, (202) 502-8666 or Steven.Sachs@ferc.gov.

Deadline for filing comments and motions to intervene: 30 days from the issuance of this notice. Comments and motions to intervene may be filed electronically via the Internet. See 18 CFR 385.2001(a)(1)(iii)(2009) and the instructions on the Commission's website under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of the Commission's Web site at http://www.ferc.gov/docs-filing/elibrary.asp. Enter the docket number (P-10674) in the docket number field to access the document. For assistance, call toll-free 1-866-208-3372.

Kimberly D. Bose,
Secretary.

[FR Doc. 2010-2483 Filed 2-4-10; 8:45 am]

BILLING CODE 6717-01-P